DEPARTMENT OF ENERGY

Federal Energy Regulatory Commission

[Project No. 137-002]

Pacific Gas & Electric Company; Notice of Meetings

May 10, 2000.

Take notice there will be a joint meeting of the Recreation and Ecological Resources subgroups of the Mokelumne Relicensing Collaborative on May 16, 2000. There will be meetings of the Ecological Resources subgroup on May 17-18, 2000, and a meeting of the Recreation subgroup on May 23, 2000. The Full Collaborative will meet on May 24-25, 2000. These meetings will be held from 9:00 a.m. to 4:00 p.m. at 2740 Gateway Oaks Drive, in Sacramento, California. Expected participants need to give their names to David Moller (PG&E) at (415) 973-4696.

For further information, please contact Diana Shannon at (202) 208-7774.

David P. Boergers,
Secretary.

[FR Doc. 00-12270 Filed 5-15-00; 8:45 am]

BILLING CODE 6717-01-M